Notice of June 20, 2014

Continuation of the National Emergency With Respect to North Korea

On June 26, 2008, by Executive Order (E.O.) 13466, the President declared a national emergency with respect to North Korea pursuant to the International Emergency Economic Powers Act (50 U.S.C. 1701-1706) to deal with the unusual and extraordinary threat to the national security and foreign policy of the United States constituted by the existence and risk of proliferation of weapons-usable fissile material on the Korean Peninsula. The President also found that it was necessary to maintain certain restrictions with respect to North Korea that would otherwise have been lifted pursuant to Proclamation 8271 of June 26, 2008, which terminated the exercise of authorities under the Trading With the Enemy Act (50 U.S.C. App. 1-44) with respect to North Korea.

On August 30, 2010, I signed E.O. 13551, which expanded the scope of the national emergency declared in E.O. 13466 to deal with the unusual and extraordinary threat to the national security, foreign policy, and economy of the United States posed by the continued actions and policies of the Government of North Korea, manifested by its unprovoked attack that resulted in the sinking of the Republic of Korea Navy ship Cheonan and the deaths of 46 sailors in March 2010; its announced test of a nuclear device and its missile launches in 2009; its actions in violation of United Nations Security Council (UNSC) Resolutions 1718 and 1874, including the procurement of luxury goods; and its illicit and deceptive activities in international markets through which it obtains financial and other support, including money laundering, the counterfeiting of goods and currency, bulk cash smuggling, and narcotics trafficking, which destabilize the Korean Peninsula and imperil U.S. Armed Forces, allies, and trading partners in the region.

On April 18, 2011, I signed E.O. 13570 to take additional steps to address the national emergency declared in E.O. 13466 and expanded in E.O. 13551 that ensure the implementation of the import restrictions contained in UNSC Resolutions 1718 and 1874 and complement the import restrictions provided for in the Arms Export Control Act (22 U.S.C. 2751 et seq.).

The existence and risk of proliferation of weapons-usable fissile material on the Korean Peninsula and the actions and policies of the Government of North Korea continue to pose an unusual and extraordinary threat to the national security, foreign policy, and economy of the United States. For this reason, the national emergency declared in E.O. 13466, expanded in scope in E.O. 13551, and addressed further in E.O. 13570, and the measures taken to deal with that national emergency, must continue in effect beyond June 26, 2014. Therefore, in accordance with section 202(d) of the National Emergencies Act (50 U.S.C. 1622(d)), I am continuing for 1 year the national emergency with respect to North Korea declared in E.O. 13466.

This notice shall be published in the Federal Register and transmitted to the Congress.

THE WHITE HOUSE,

June 20, 2014.

[FR Doc. 2014-14947

Filed 6-23-14; 11:15 am]

Billing code 3295-F4